DEPARTMENT OF THE INTERIOR

National Park Service

National Register of Historic Places; Notification of Pending Nominations and Related Actions

Nominations for the following properties being considered for listing or related actions in the National Register were received by the National Park Service before March 11, 2006. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by April 5, 2006.

John W. Roberts,
Acting Chief, National Register/National Historic Landmarks Program.

Alabama

Shelby County

Helena Historic District, parts of AL 261 and Helena Rd., parts of 1st-3rd Ave., 200 blk 3rd St., Helena, 06000278

Tallapoosa County

Russell Family Historic District, 35,65,85 N. Central, 228, 334 Robin Hill, 101 Russwood, Alexander City, 06000279

California

Solano County

Pleasants Ranch, 8212 Pleasants Valley Rd., Vacaville, 06000280

Colorado

Weld County

Eaton, Aaron James, House, 207 Elm St., Eaton, 06000281

Delaware

New Castle County

Hickman Row, 1-117 Hickman Rd., Claymont, 06000284

Liedlich, Charles and Edith, House, 180 Welsh Tract Rd., Newark, 06000283

Wilmington Club, 1103 N. Market St., Wilmington, 06000282

Georgia

Carroll County

Mandeville Mills and Mill Village Historic District, roughly centered on Aycock, Lovvorn, and Burson Sts., Carrollton, 06000287

Clarke County

Gospel Pilgrim Cemetery, 530 Fourth St., Athens, 06000285

Cobb County

Acworth Downtown Historic District, roughly bounded by Southside Dr., Federal and Lemon Sts., and Senator Richard B. Russell Ave., Acworth, 06000286

Whitfield County

Dalton Commercial Historic District (Boundary Increase), roughly centered on Hamilton St., and Bounded by S. Thornton Ave., Morris and Hawthorne Sts., and RR lines, Dalton, 06000288

Indiana

Allen County

Illsley Place—West Rudisill Historic District, roughly bounded by Broadway, W. Rudisill Blvd., Beaver Ave., and the alley N of Illsley Dr., Fort Wayne, 06000310

Henry County

Richsquare Friends Meetinghouse and Cemetery, 5685 S. Cty Rd. East, Lewisville, 06000305

Jennings County

North Vernon Downtown Historic District, bounded by Sixth and Chestnut Sts., Keller St., Fourth and Main, and Jennings, North Vernon, 06000306

Madison County

Anderson Downtown Historic District, roughly Meridian St., from 10th to Conrail RR and first blk W of 11th and 12th Sts., Anderson, 06000307

Marion County

Askren, Thomas, House, 6550 E. 16th St., Indianapolis, 06000303

Linwood Colonial Apartments, 4421 E. Washington St. and 55 and 56 S. Linwood Ave., Indianapolis, 06000308

Putnam County

Hazelett, Richard M., House, 911 E. Washington St., Greencastle, 06000304

Ripley County

Versailles School and Tyson Auditorium, (Indiana's Public Common and High Schools MPS) 100 South High St., Versailles, 06000309

North Carolina

Ashe County

Perry—Shepherd Farm, 410 Swansie Shepherd Rd., Lansing, 06000289

Caldwell County

Lenoir Grammar School, 506 Harper St., Lenoir, 06000290

Duplin County

Faison Cemetery, (Duplin County MPS) East Main St. (NC 403), Faison, 06000291

Gaston County

Craig Farmstead, 118 Craigland Ln., Gastonia, 06000292

Nash County

Red Oak Community House, E. Side, Church St., approx. 0.1 N of jct. with NC 43, Red Oak, 06000293

Warren County

Warren County Training School, East side of NC 1300, 0.8 N of NC 1372, Wise, 06000294

Rhode Island

Providence County

Beaman and Smith Company Mill, 20 Gordon Ave., Providence, 06000299

Hope Webbing Company Mill, 999-1005 Main St., Pawtucket, 06000297

Philmont Worsted Company Mill, 685 Social St., Woonsocket, 06000296

Smithfield Exchange Bank, 599 Putnam Pike, Smithfield, 06000295

Washington County

North End Historic District, Canal, Dayton, Friendship, High, Pearl, Pierce, Pleasant, Pond, West, Industrial Lila, Geranium, Marriott and Turano, Westerly, 06000298

Wisconsin

Price County

Lidice Memorial, Sokol Park, Ash and Fifield Sts., Phillips, 06000301

Rock County

Jefferson Avenue Historic District, bounded by Oakland, Garfield and Ruger Aves. and Forest Park Blvd., Janesville, 06000300

Trempealeau County

Green Bay and Western Railroad Depot, 36295 Main St., Whitehall, 06000302

A request for a MOVE has been made for the following resources:

Kansas

Johnson County

Virginia School District #33, 71st St. and Clare Rd., Shawnee, 04000454

Washington County

Washington County Kingpost (Metal Truss Bridges in Kansas 1861-1939 MPS) SE of Barnes, Barnes vicinity, 89002184

A request for REMOVAL has been made for the following resources:

Oregon

Benton County

Corvallis High School, 836 NW 11th St., Corvallis, 03000692

Jackson County

Wimer Bridge (Oregon Covered Bridges TR) E. Evans Creek Rd., Wimer, 79002075

Multnomah County

Bethel Baptist Church, 101 S. Main St., Gresham, 82003740

[FR Doc. E6-4009 Filed 3-20-06; 8:45 am]

BILLING CODE 4312-51-P